OFFICE OF THE DIRECTOR OF NATIONAL INTELLIGENCE

Agency Information Collection Activities

AGENCY: Office of the Director of National Intelligence (ODNI).

ACTION: Notice.

SUMMARY: In December 2011, the ODNI accepted responsibility from the Information Security Oversight Office for the maintenance of Standard Form 312: Classified Information Nondisclosure Agreement; Standard Form 713: Consent For Access to Records; and Standard Form 714: Financial Disclosure Report, which are directly related to responsibilities assigned to the Director of National Intelligence (DNI) as Security Executive Agent. Accordingly, ODNI is giving public notice regarding its acceptance of responsibility of the aforementioned forms. Also, section 10 of the Standard Form 312 is being updated as described in the Supplementary Information.

FOR FURTHER INFORMATION CONTACT: Requests for additional information should be directed to Mr. John Hackett, Office of the Chief Information Officer, Information and Data Management Group, Office of the Director of National Intelligence, Washington, DC 20511.

SUPPLEMENTARY INFORMATION: Section 10 of Standard Form 312 is being updated to include the following three statutory changes required pursuant to § 715 of Public Law 112-74:

1. Striking “Executive Order No. 12958” and inserting “Executive order No. 13526 (75 FR 707), or any successor thereto”;

2. After “the Intelligence Identities Protection Act of 1982 (50 U.S.C. 421 et seq.) (governing disclosures that could expose confidential Government agents);” inserting “sections 7(c) and 8H of the Inspector General Act of 1978 (5 U.S.C. App.) (relating to disclosures to an inspector general, the inspectors general of the Intelligence Community, and Congress); section 103H(g)(3) of the National Security Act of 1947 (50 U.S.C. 403-3h-(g)(3) (relating to disclosures to the inspector general of the Intelligence Community); sections 17(d)(5) and 17(e)(3) of the Central Intelligence Agency Act of 1949 (50 U.S.C. 403q(d)(5) and 403q(e)(3)) (relating to disclosures to the Inspector General of the Central Intelligence Agency and Congress);”; and

3. After “Subversive Activities” inserting “Control”.

Abstract: The National Security Act of 1947, as amended by the Intelligence Reform and Terrorism Prevention Act of 2004, and Executive Order13467, “Reforming Processes Related to Suitability for Government Employment, Fitness for Contractor Employees, and Eligibility for Access to Classified National Security Information,” authorizes the DNI as the Security Executive Agent to develop standard forms that promote uniformity and consistency in the implementation of the Government's security clearance program.

Dated: November 30, 2012.
Mark W. Ewing,
Chief Management Officer.

[FR Doc. 2012-31541 Filed 1-4-13; 8:45 am]

BILLING CODE P